INTERNATIONAL TRADE COMMISSION

[Investigation No. 731-TA-1151 (Second Review)]

Citric Acid and Certain Citrate Salts From Canada; Termination of Five-Year Review

AGENCY: United States International Trade Commission.

ACTION: Notice.

SUMMARY: The Commission instituted the subject five-year review on May 1, 2020 to determine whether revocation of the antidumping duty order on citric acid and certain citrate salts from Canada would be likely to lead to continuation or recurrence of material injury. On June 23, 2020, the Department of Commerce published notice that it was revoking the order effective June 24, 2020, because the domestic interested parties withdrew their intent to participate in this review. (85 FR 37626). Accordingly, the subject review is terminated.

DATES: June 24, 2020.

FOR FURTHER INFORMATION CONTACT: Jason Duncan (202-205-3432), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: This review is being terminated under authority of title VII of the Tariff Act of 1930 and pursuant to section 751(c) of the Tariff Act of 1930 (19 U.S.C. 1675(c)). This notice is published pursuant to § 207.69 of the Commission's rules (19 CFR 207.69).

By order of the Commission.
Issued: July 17, 2020.
Lisa Barton,
Secretary to the Commission.

[FR Doc. 2020-15927 Filed 7-22-20; 8:45 am]

BILLING CODE 7020-02-P